NUCLEAR REGULATORY COMMISSION

[Docket No. 50-18; NRC-2024-0092]

GE Hitachi Nuclear Energy/NorthStar Vallecitos, LLC.; Vallecitos Boiling Water Reactor; License Termination Plan

AGENCY: Nuclear Regulatory Commission.

ACTION: Public meeting and request for comment.

SUMMARY: On September 7, 2023, as supplemented by letters dated September 15, 2023, and March 25, 2024, and email dated October 31, 2023, the U.S. Nuclear Regulatory Commission (NRC) received from General Electric (GE) Hitachi Nuclear Energy (GEH, the licensee) a license amendment request to include a License Termination Plan (LTP) for the GEH Vallecitos Boiling Water Reactor (VBWR). The LTP provides details about the radiological status of the reactor facility, the remaining decommissioning tasks to be completed, and the plan for termination of the VBWR license. The NRC is requesting public comments on VBWR's LTP and will hold a public meeting to discuss the LTP.

DATES: The public meeting will be held on Tuesday, May 21, 2024, from 6 p.m. to 8 p.m., pacific daylight time (PDT), in the meeting room of the SpringHill Suites Pleasanton, 7270 Johnson Drive, Pleasanton, CA 94588. The public meeting is also available through an online webinar or by phone. See section III “Request for Comment and Public Meeting” of this document for additional information. Submit comments by July 15, 2024. Comments received after this date will be considered if it is practical to do so, but the NRC is able to ensure consideration only for comments received on or before this date.

ADDRESSES: You may submit comments by any of the following methods; however, the NRC encourages electronic comment submission through the Federal rulemaking website:

• Federal rulemaking website: Go to https://www.regulations.gov and search for Docket ID NRC-2024-0092. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Jack D. Parrott, Office of Nuclear Material Safety and Safeguards, U.S. Nuclear Regulatory Commission, Washington, DC 20555-0001, telephone: 301-415-6634; email: Jack.Parrott@nrc.gov.

SUPPLEMENTARY INFORMATION:

I. Obtaining Information and Submitting Comments

A. Obtaining Information

Please refer to Docket ID NRC-2024-0092 when contacting the NRC about the availability of information for this action. You may obtain publicly available information related to this action by any of the following methods:

• Federal Rulemaking website: Go to https://www.regulations.gov and search for Docket ID NRC-2024-0092.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2024-0092 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

General Electric (GE) Hitachi Nuclear Energy (GEH, the licensee) is the holder of Facility Operating License, DPR-1. The license provides, among other things, that the GEH Vallecitos Boiling Water Reactor (VBWR) is subject to all rules, regulations, and orders of the NRC now or hereafter in effect. The VBWR is a boiling water reactor located at the GEH Vallecitos Nuclear Center (VNC) in Sunol, CA.

The license, DPR-1, was issued to GE on August 31, 1957, and full power was attained on October 19, 1957. The VBWR ceased operations on December 9, 1963, and was defueled on December 24 of that year. GE was issued a license to possess but not operate the VBWR reactor on September 9, 1965. The U.S. Atomic Energy Commission issued GE an order to dismantle the VBWR on July 25, 1966. However, the VBWR was put into a safe storage configuration and major decommissioning activities at the VBWR did not occur until 2007-2008 with the removal of most of the contaminated equipment and components. The reactor vessel was the last remaining component of the VBWR reactor. The reactor vessel was removed and disposed of offsite in 2023. What remains of the VBWR is the empty reactor building with residual structural contamination and contaminated embedded piping.

The VBWR LTP describes a strategy for terminating the VBWR license by transferring the residual contamination of the VBWR to the NRC license (DR-10) for the Empire State Atomic Development Agency (ESADA) Vallecitos Experimental Superheat Reactor (EVESR), that is adjacent to the VBWR. This strategy will require approval of an exemption to paragraph 50.82(a)(11)(ii) of title 10 of the Code of Federal Regulations (10 CFR) that will allow the VBWR license to be terminated without demonstrating that the facility and site have met the residual contamination criteria for license termination in 10 CFR 20, subpart E. This is because the VBWR residual contamination would be transferred to the EVESR license by amending the EVESR license. When the DPR-1 license is terminated, the VBWR facility and all in-situ residual contamination will be included in the EVESR license. The VBWR LTP describes that an LTP for the EVESR will be submitted later, that will include the residual contamination of the VBWR, and describe meeting the residual contamination requirements of 10 CFR 20, subpart E. This will allow for the termination of the EVESR DR-10 license by April 15, 2030.

The VBWR license, and the other GE licensed facilities at the VNC, were transferred from GE to GEH in 2007. By letter dated September 1, 2023 (ADAMS Accession No. ML23244A247), GEH and NorthStar Vallecitos, LLC (NorthStar Vallecitos) have requested that the GEH licenses at the VNC (including the license for the VBWR) be transferred to NorthStar Vallecitos for decommissioning. This request is still under review by the NRC but may be granted by the time of this public meeting. If so, the VBWR licensee will then be NorthStar Vallecitos. By letter dated September 7, 2023 (ADAMS Accession No. ML23250A267), as supplemented by letter dated September 15, 2023 (ADAMS Package Accession No. ML23261A591), and March 25, 2024 (ADAMS Accession No. ML24085A792), and email dated October 31, 2023 (ADAMS Accession No. ML23304A300), GEH submitted the LTP for the VBWR.

According to the requirements in 10 CFR 50.82(a)(9)(iii), after the licensee submits an LTP the NRC must hold a public meeting near the site. The purpose of the meeting is for the NRC staff to discuss the NRC's review of the LTP, to solicit public comments on the LTP, and to describe how comments can be submitted to NRC. In addition, in accordance with 10 CFR 50.82(a)(9)(iii) and 20.1405, upon the receipt of an LTP from a licensee, NRC must publish a notice in the Federal Register and solicit comments from affected parties.

III. Request for Comment and Public Meeting

The NRC is requesting public comments on the VBWR LTP. The NRC will conduct a public meeting to discuss the LTP and receive comments on Tuesday, May 21, 2024, from 6 p.m. to 8 p.m., PDT. The public meeting will be held at SpringHill Suites Pleasanton, 7270 Johnson Drive, Pleasanton, CA 94588. Please contact Jack Parrott no later than May 17, 2024, if accommodations or special equipment are needed for you to attend or to provide comments, so that the NRC staff can determine whether the request can be accommodated.

For additional information regarding the meeting, see the NRC's Public Meeting Schedule website at https://meetings.nrc.gov/pmns/mtg. The agenda and links to participate by webinar or phone will be posted no later than 10 days prior to the meeting.

Dated: May 10, 2024.
For the Nuclear Regulatory Commission.
Nicole Warnek,
Acting Chief, Reactor Decommissioning Branch, Division of Decommissioning, Uranium Recovery, and Waste Programs, Office of Nuclear Material Safety and Safeguard.

[FR Doc. 2024-10625 Filed 5-14-24; 8:45 am]

BILLING CODE 7590-01-P